NUCLEAR REGULATORY COMMISSION

[Docket No. 50-425]

Southern Nuclear Operating Company, et al.; Vogtle Electric Generating Plant, Unit 2; Environmental Assessment and Finding of No Significant Impact

The U.S. Nuclear Regulatory Commission (NRC) is considering issuance of an exemption from Title 10 of the Code of Federal Regulations (10 CFR), part 54, section 54.17(c), for Facility Operating License No. NFP-81, issued to Southern Nuclear Operating Company, Inc., (the licensee), for operation of Vogtle Electric Generating Plant, Unit 2 (Vogtle Unit 2), located in Burke County, Georgia. Therefore, as required by 10 CFR 51.21, the NRC is issuing this environmental assessment and finding of no significant impact.

Environmental Assessment

Identification of the Proposed Action

The proposed action would exempt the licensee from the requirement of 10 CFR 54.17(c), which specifies that an applicant (for the purposes of license renewal, the licensee is the applicant) may apply for a renewed operating license no earlier than 20 years before the expiration of the operating license currently in effect.

The proposed action is in accordance with the licensee's application for an exemption dated May 22, 2006.

The Need for the Proposed Action

In accordance with 10 CFR 54.17(c), the earliest date that the applicant could apply for a renewed operating license for Vogtle Unit 2 would be February 9, 2009. The licensee plans to apply for license renewal for Vogtle Units 1 and 2 on June 28, 2007. Vogtle Unit 1 will have accumulated 20 years operating experience by June 28, 2007 and will meet the requirements of 10 CFR 54.17(c). The proposed exemption for Unit 2 is required to allow the licensee to apply for the renewal of both Vogtle operating licenses concurrently. The request seeks only schedular relaxation without any other substantive reliefs.

Environmental Impacts of the Proposed Action

The NRC has completed its evaluation of the proposed action and concludes that the issuance of the proposed exemption will not have a significant environmental impact. The proposed schedular exemption pertains solely to the future submission of an application to renew the Vogtle 2 operating license. It causes no changes to the current design or operation of Vogtle 2 and imparts no prejudice in the future review of the application for license renewal.

The details of the staff's safety evaluation will be provided in the exemption that will be issued as part of the letter to the licensee approving the exemption to the regulation.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

This action does not involve the use of any different resources than those previously considered in the Final Environmental Statement (FES) for Vogtle Unit 2, NUREG-1087, “Final Environmental Statement Related to the Operation of the VEGP [Vogtle Electric Generating Plant], Units 1 and 2,” dated December 1985.

Agencies and Persons Consulted

In accordance with its stated policy, on August 4, 2006, the staff consulted with the Georgia State official, Mr. Jim Hardeman of the Department of Natural Resources, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated May 22, 2006. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 11th day of September 2006.
For the Nuclear Regulatory Commission.
Christopher Gratton,
Sr. Project Manager, Plant Licensing Branch II-1,Division of Operating Reactor Licensing,Office of Nuclear Reactor Regulation.

[FR Doc. E6-16137 Filed 9-29-06; 8:45 am]

BILLING CODE 7590-01-P